DEPARTMENT OF ENERGY

Federal Energy Regulatory Commission

[Docket No. RM01-8-007]

Revised Public Utility Filing Requirements for Electric Quarterly Reports

December 21, 2007.

AGENCY: Federal Energy Regulatory Commission, Department of Energy.

ACTION: Order No. 2001-H; Order on Rehearing and Clarification.

SUMMARY: In this order, the Federal Energy Regulatory Commission (Commission) grants in part, and denies in part, rehearing and clarifies the information to be reported in the Electric Quarterly Report's (EQR'S) fields for Contract Execution Date (Field No. 21), Contract Commencement Date (Field No. 22) and Rate Description (Field No. 37). In addition, the order corrects an error relating to Increment Name (Field Nos. 28 and 60).

DATES: This order becomes effective upon issuance. The revised definitions adopted in this order shall be applied to EQR filings beginning with the Q1 2008 EQR (due on April 30, 2008) and in subsequent EQR filings due thereafter.

FOR FURTHER INFORMATION CONTACT: Michelle Veloso (Technical Information), Office of Enforcement, Federal Energy Regulatory Commission, 888 First Street, NE., Washington, DC 20426, (202) 502-8363.

Gary D. Cohen (Legal Information), Office of the General Counsel, Federal Energy Regulatory Commission, 888 First Street, NE., Washington, DC 20426, (202) 502-8321.

SUPPLEMENTARY INFORMATION: Before Commissioners: Joseph T. Kelliher, Chairman; Suedeen G. Kelly, Marc Spitzer, Philip D. Moeller, and Jon Wellinghoff.

1. On October 24, 2007, Edison Electric Institute (EEI) filed a request for rehearing or clarification in response to the Commission's order adopting an Electric Quarterly Report (EQR) Data Dictionary.¹ Order No. 2001-G collected in one document the definitions of certain terms and values used in filing EQR data (previously provided in Commission orders and in guidance materials posted at the Commission's website) and issued formal definitions for fields that were previously undefined.² In this order, the Commission grants in part, and denies in part, rehearing and clarifies the information to be reported in Contract Execution Date (Field No. 21), Contract Commencement Date (Field No. 22) and Rate Description (Field No. 37). In addition, we correct an error that we made in Order No. 2001-G relating to Increment Name (Field Nos. 28 and 60).

¹ Revised Public Utility Filing Requirements for Electric Quarterly Reports, Order No. 2001-G, 120 FERC ¶ 61,270 (Sep. 24, 2007), 72 FR 56735 (Oct. 4, 2007).

² Id.

I. Background

2. On April 25, 2002, the Commission issued Order No. 2001, a Final Rule establishing revised public utility filing requirements.³ This rule revised the Commission's filing requirements to require companies subject to the Commission's regulations under section 205 of the Federal Power Act to file quarterly reports that: (1) Provide data identifying the utility on whose behalf the report is being filed (ID Data); (2) summarize pertinent data about the utility's currently effective contracts (Contract Data); and (3) summarize data about wholesale power sales the utility made during the reporting period (Transaction Data). The requirement to file EQRs replaced the requirement to file quarterly transaction reports summarizing a utility's market-based rate transactions and sales agreements that conformed to the utility's tariff.

³ Revised Public Utility Filing Requirements for, Order No. 2001, 67 FR 31043, FERC Stats. & Regs. ¶ 31,127 (2002), reh'g denied, Order No. 2001-A, 100 FERC ¶ 61,074, reconsideration and clarification denied, Order No. 2001-B, 100 FERC ¶ 61,342, order directing filings, Order No. 2001-C, 101 FERC ¶ 61,314 (2002), order directing filings, Order No. 2001-D, 102 FERC ( 61,334, order refining filing requirements, Order No. 2001-E, 105 FERC ¶ 61,352 (2003), clarification order, Order No. 2001-F, 106 FERC ¶ 61,060 (2004).

3. In Order No. 2001, the Commission also adopted a new section in its regulations, 18 CFR 35.10b, which requires that the EQRs are to be prepared in conformance with the Commission's software and guidance posted and available from the Commission website. This obviates the need to revise section 35.10b to implement revisions to the software and guidance. Since the issuance of Order No. 2001, as need has arisen, the Commission has issued orders to resolve questions raised by EQR users and has directed Staff to issue additional guidance.⁴

⁴ Examples cited in EQR Notice at P 3.

4. On September 24, 2007, the Commission issued Order No. 2001-G, providing a data dictionary to clarify the information to be reported in EQR data. EEI filed a request for rehearing or clarification requesting clarification of a few specific items. In addition, on December 4, 2007, TransAlta filed comments alerting the Commission to a filing problem it was experiencing relating to Increment Name (Field Nos. 28 and 60). The discussion below addresses EEI's rehearing request and TransAlta's comments.

II. Discussion

A. Field No. 21—Contract Execution Date

5. The EQR Notice ⁵ proposed only a slight change to the Order No. 2001 definition for Contract Execution Date: “The date the contract was signed. If the parties signed on different dates, or there are contract amendments, use the most recent date signed.”

⁵ Notice Seeking Comments on Proposed Electric Quarterly Report Data Dictionary, FERC Stats. & Regs. ¶ 35,050 (2007), 72 FR 26091 (May 8, 2007).

6. In response to the EQR Notice, Reliant and EEI suggested that the Contract Execution Date should not change because of a minor amendment to the contract. Both commenters noted that, frequently, contract amendments are minor changes, such as changes in an address or in payment terms, that do not affect the key operational parameters of the agreement.

7. Based on these comments, the Commission found in Order No. 2001-G that the usefulness of the data may be increased with a single execution date for each contract across all periods. However, the order explained that, if there are material amendments to the contract, then the Contract Execution Date must be changed.

8. In EEI's request for rehearing, it argues that the Commission's instruction that the Contract Execution Date must be changed when there are material amendments to the contract is confusing and burdensome. It suggests that the original execution date should be reported for the duration of the contract and argues that changes in the contract will be reflected in the descriptions of revised contract provisions, such as in the Rate (Field No. 34), Begin Date (Field No. 43) and End Date fields (Field No. 44).

Commission Conclusion

9. In Order No. 2001-G, the Commission agreed with EEI and Reliant that it need not change the Contract Execution Date each time there is a minor revision to the contract and, accordingly, modified the instructions on what information should be reported in this field. The Commission reduced the burden and confusion by clarifying that minor, non-material changes may be omitted for the purpose of identifying the Contract Execution Date. EEI argues that the Contract Execution Date should not be revised, even in instances where there has been a material amendment to the contract.

10. The Commission recognizes the benefits of classifying a contractual relationship based on when it originated and will revise the definition of Contract Execution Date as EEI suggests to require companies to report the original date the contract was executed, without regard to any subsequent revisions to the contract. For the purposes of the EQR Data Dictionary, the definition will read: “The date the contract was signed. If the parties signed on different dates, use the most recent date signed.” However, this change will not be incorporated at the cost of obscuring information that would alert EQR users that key terms in the contract have been revised. Thus, the Commission will revise the definition of Contract Commencement Date as described below.

B. Field No. 22—Contract Commencement Date

11. In order to alert EQR users that a contract has been revised, the Commission will revise the definition of Contract Commencement Date to refer to the date that service commenced under the current terms and conditions of the contract. The Commission will further clarify that the terms deemed relevant for determining or changing the Contract Commencement Date are those that are reported in the Contract Data section of the EQR.⁶ Any amendment that would cause a change in these required data elements would require a change in the Contract Commencement Date.

⁶ In developing the EQR, the Commission identified a number of key terms associated with the products and services offered under any given jurisdictional contract. These terms include: Class Name, Term Name, Increment Name, Increment Peaking Name, Increment Peaking Name, Product Type Name, Product Name, Rate (actual, maximum, minimum or description), and Time Zone. The Commission requires that Class Name, Term Name, Increment Name, Increment Peaking Name, Product Type Name, Product Name, and Time Zone be reported in the EQR for every product offered under every jurisdictional contract. Additionally, the Commission requires a definition of the rate for every product either as a Rate, a Rate Minimum, a Rate Maximum or a Rate Description. Finally, the Commission requires that companies report, when specified in the contract for a given product, Quantity, Units, Rate Units, Point of Receipt Control Area, Point of Receipt Specific Location, Point of Delivery Control Area, Point of Delivery Specific Location, Begin Date, and End Date.

12. The Commission recognizes EEI's concern regarding potential inconsistency between the EQR and eTariff in identifying an original execution date. However, there is a very real public interest in identifying when key terms of the contract were determined. As market conditions change over time, it is imperative to be able to sort the deals that occurred years ago from those that were confirmed more recently. To better understand the market conditions at the time a contract was put in place, it is necessary to document the date that key terms were established.

13. The Commission will define Contract Commencement Date as “The date the terms of the contract reported in the EQR were effective. If the terms reported in the Contract Data section of the EQR became effective or if service under those terms began on multiple dates (i.e.: due to an amendment), the date to be reported as the Commencement Date is the date when service began pursuant to the most recent amendment to the terms reported in the Contract Data section of the EQR.” In this way, the Commission and the public will continue to be able to determine when the contract terms reported in the EQR were determined.

C. Field Nos. 28 and 60—Increment Name

14. In the EQR Notice,⁷ the Commission proposed to revise Field Nos. 28 and 60 to, among other matters, create an Increment Name covering “Seasonal” sales to characterize power sales made for longer than one month, but less than a year.⁸ This proposal was opposed in comments filed by EEI, Reliant and Occidental. In Order No. 2001-G, the Commission agreed with the commenters that the term “S—Seasonal” should not be included in the options available for the Increment Name fields. However, in the issued Order No. 2001-G, when the term “Seasonal” was dropped from the Data Dictionary, the interval to be included in “Monthly” should have been adjusted in the attached Data Dictionary, so there would be no gap between “Monthly” and “Annual.” Unfortunately, this correction was inadvertently omitted.

⁷ Revised Public Utility Filing Requirements for Electric Quarterly Reports, 72 Fed. Reg. 26091 (May 8, 2007), FERC Stats. & Regs. ¶ 35,050 (2007) (EQR Notice).

⁸ EQR Notice at P. 18.

15. On December 4, 2007, TransAlta filed comments alerting the Commission to this problem.

Commission Conclusion

16. We will take this opportunity to correct the inadvertent error in Order No. 2001-G involving Increment Name, so that filers can accurately report their sales covering a period of more than 168 consecutive hours up to one year as M-Monthly (>168 consecutive hours and < 1 year).

D. Field No. 37—Rate Description

17. The EQR Notice proposed defining Rate Description as a “[t]ext description of rate. May reference FERC tariff, or, if a discounted or negotiated rate, include algorithm.” EEI filed comments in response to the EQR Notice requesting that filers be allowed to enter the tariff location into the Rate Description field in lieu of a detailed description of the rate itself. EEI supported this request by citing the difficulty of putting complex rates into the 150 character field. In Order No. 2001-G, the Commission stated that the EQR fulfills the Commission's statutory obligation under the Federal Power Act (FPA) to have companies' rates on file. We further stated that the Commission relies on the EQR to satisfy the FPA requirement that rates provided in a contract be publicly disclosed and on file. Thus, we concluded that it is imperative that the information reported in EQRs provide an adequate level of detail and transparency.

18. The Commission also stated in Order No. 2001-G that a tariff reference alone, instead of the actual rate description, does not meet the FPA standard. Allowing filers to substitute a tariff reference in place of an actual rate description would force EQR users seeking this information to conduct further research to track down the contents of the tariff on file. This is clearly less transparent than a rate description that actually describes the rate. We also explained that, if the tariff reference is coupled with a descriptive summary of the rate, where the rate is the function of a complex algorithm, the standard is met. Further, we explained that rate information will continue to be available to the public at a level sufficient to explain the bases and methods of calculation with additional detail available upon request to interested persons.

19. On rehearing, EEI argues that, in the case of cost-based rates, the FPA requirement that rates be on file is satisfied by separate on-the-record Commission filings, so it is not necessary to provide a rate description in the EQR to satisfy the FPA. Thus, it argues, a reference to the rate schedule number and page is sufficient for EQR purposes, without any text description of the rate.

Commission Conclusion

20. Prior to the adoption of Order No. 2001, public utilities satisfied the FPA requirement to have their rates on file with the Commission without filing EQRs (which had not yet been established). Thus, EEI is correct that the EQR filings are not the sole means by which this legal requirement can be met. However, section 205(c) provides the Commission with wide discretion on how companies are to file their rates and, in Order No. 2001, the Commission established the EQR as a means to ensure compliance with the FPA, and to provide a mechanism for the public to inspect and review the pertinent terms and conditions of public utilities' contracts and transactions in an electronic format that afforded greater transparency and accessibility to this information.⁹

⁹ See, for example, Order No. 2001 at P. 95.

21. When this issue first was considered in Order No. 2001-G, it centered on the question of whether 150 characters would be sufficient to provide all the information needed to accurately describe a public utility's rates. After consideration of EEI's arguments and the problem of fitting an accurate rate description into 150 characters without sacrificing transparency, we are persuaded to revise the definition for Rate Description to include a provision that relates to a rate that is currently on file with the Commission. The Commission will define Rate Description as “[t]ext description of rate. If the rate is currently available on the FERC Web site, a citation of the FERC Accession Number and the relevant FERC tariff including page number or section may be included instead of providing the entire rate algorithm. If the rate is not available on the FERC Web site, include the rate algorithm, if rate is calculated. If the algorithm would exceed the 150 character field limit, it may be provided in a descriptive summary (including bases and methods of calculations) with a detailed citation of the relevant FERC tariff including page number and section. If more than 150 characters are required, the contract product may be repeated in subsequent lines of data until the rate is adequately described.” With this revision of Rate Description, EQR filers may provide the necessary information without sacrificing transparency.

III. Document Availability

22. In addition to publishing the full text of this document in the Federal Register, the Commission provides all interested persons an opportunity to view and/or print the contents of this document via the Internet through the Commission's Home Page (http://www.ferc.gov) and in the Commission's Public Reference Room during normal business hours (8:30 a.m. to 5 p.m. Eastern time) at 888 First Street, NE., Room 2A, Washington, DC 20426.

23. From the Commission's Home Page on the Internet, this information is available in the eLibrary. The full text of this document is available in the eLibrary both in PDF and Microsoft Word format for viewing, printing, and/or downloading. To access this document in eLibrary, type “RM01-8” in the docket number field. User assistance is available for eLibrary and the Commission's website during the Commission's normal business hours. For assistance contact the Commission's Online Support services at FERCOnlineSupport@ferc.gov or toll-free at (866) 208-3676, or for TTY, contact (202) 502-8659.

The Commission orders:

(A) EEI's request for rehearing or clarification is hereby granted in part, and denied in part, as discussed in the body of this order.

(B) TransAlta's request for clarification is hereby granted, as discussed in the body of this order.

(C) The revised definitions adopted in this order shall be applied to EQR filings beginning with the Q1 2008 EQR (due on April 30, 2008) and in subsequent EQR filings due thereafter.

By the Commission.
Kimberly D. Bose,
Secretary.

Attachment

Electric Quarterly Report Data Dictionary Version 1.0 (Issued —)

EQR Data Dictionary
Field No. | Field | Required | Value | Definition
ID Data
1 | Filer Unique Identifier | ✓ | FR1 | (Respondent)—An identifier (i.e., “FR1”) used to designate a record containing Respondent identification information in a comma-delimited (csv) file that is imported into the EQR filing. Only one record with the FR1 identifier may be imported into an EQR for a given quarter.
1 | Filer Unique Identifier | ✓ | FS# (where “#” is an integer) | (Seller)—An identifier (e.g., “FS1”, “FS2”) used to designate a record containing Seller identification information in a comma-delimited (csv) file that is imported into the EQR filing. One record for each seller company may be imported into an EQR for a given quarter.
1 | Filer Unique Identifier | ✓ | FA1 | (Agent)—An identifier (i.e., “FA1”) used to designate a record containing Agent identification information in a comma-delimited (csv) file that is imported into the EQR filing. Only one record with the FA1 identifier may be imported into an EQR for a given quarter.
2 | Company Name | ✓ | Unrestricted text (100 characters) | (Respondent)—The name of the company taking responsibility for complying with the Commission's regulations related to the EQR.
2 | Company Name | ✓ | Unrestricted text (100 characters) | (Seller)—The name of the company that is authorized to make sales as indicated in the company's FERC tariff(s). This name may be the same as the Company Name of the Respondent.
2 | Company Name | ✓ | Unrestricted text (100 characters) | (Agent)—The name of the entity completing the EQR filing. The Agent's Company Name need not be the name of the company under Commission jurisdiction.
3 | Company DUNS Number | for Respondent and Seller | Nine digit number | The unique nine digit number assigned by Dun and Bradstreet to the company identified in Field Number 2.
4 | Contact Name | ✓ | Unrestricted text (50 characters) | (Respondent)—Name of the person at the Respondent's company taking responsibility for compliance with the Commission's EQR regulations.
4 | Contact Name | ✓ | Unrestricted text (50 characters) | (Seller)—The name of the contact for the company authorized to make sales as indicated in the company's FERC tariff(s). This name may be the same as the Contact Name of the Respondent.
4 | Contact Name | ✓ | Unrestricted text (50 characters) | (Agent)—Name of the contact for the Agent, usually the person who prepares the filing.
5 | Contact Title | ✓ | Unrestricted text (50 characters) | Title of contact identified in Field Number 4.
6 | Contact Address | ✓ | Unrestricted text | Street address for contact identified in Field Number 4.
7 | Contact City | ✓ | Unrestricted text (30 characters) | City for the contact identified in Field Number 4.
8 | Contact State | ✓ | Unrestricted text (2 characters) | Two character state or province abbreviations for the contact identified in Field Number 4.
9 | Contact Zip | ✓ | Unrestricted text (10 characters) | Zip code for the contact identified in Field Number 4.
10 | Contact Country Name | ✓ | CA—Canada MX—Mexico US—United States UK—United Kingdom | Country (USA, Canada, Mexico, or United Kingdom) for contact address identified in Field Number 4.
11 | Contact Phone | ✓ | Unrestricted text (20 characters) | Phone number of contact identified in Field Number 4.
12 | Contact E-Mail | ✓ | Unrestricted text | E-mail address of contact identified in Field Number 4.
13 | Filing Quarter | ✓ | YYYYMM | A six digit reference number used by the EQR software to indicate the quarter and year of the filing for the purpose of importing data from csv files. The first 4 numbers represent the year (e.g., 2007). The last 2 numbers represent the last month of the quarter (e.g., 03 = 1st quarter; 06 = 2nd quarter, 09 = 3rd quarter, 12 = 4th quarter).
Contract Data
14 | Contract Unique ID | ✓ | An integer proceeded by the letter “C” (only used when importing contract data) | An identifier beginning with the letter “C” and followed by a number (e.g., “C1”, “C2”) used to designate a record containing contract information in a comma-delimited (csv) file that is imported into the EQR filing. One record for each contract product may be imported into an EQR for a given quarter.
15 | Seller Company Name | ✓ | Unrestricted text (100 characters) | The name of the company that is authorized to make sales as indicated in the company's FERC tariff(s). This name must match the name provided as a Seller's “Company Name” in Field Number 2 of the ID Data (Seller Data).
16 | Customer Company Name | ✓ | Unrestricted text (70 characters) | The name of the counterparty.
17 | Customer DUNS Number | ✓ | Nine digit number | The unique nine digit number assigned by Dun and Bradstreet to the company identified in Field Number 16.
18 | Contract Affiliate | ✓ | Y (Yes) N (No) | The customer is an affiliate if it controls, is controlled by or is under common control with the seller. This includes a division that operates as a functional unit. A customer of a seller who is an Exempt Wholesale Generator may be defined as an affiliate under the Public Utility Holding Company Act and the FPA.
19 | FERC Tariff Reference | ✓ | Unrestricted text (60 characters) | The FERC tariff reference cites the document that specifies the terms and conditions under which a Seller is authorized to make transmission sales, power sales or sales of related jurisdictional services at cost-based rates or at market-based rates. If the sales are market-based, the tariff that is specified in the FERC order granting the Seller Market Based Rate Authority must be listed.
20 | Contract Service Agreement ID | ✓ | Unrestricted text (30 characters) | Unique identifier given to each service agreement that can be used by the filing company to produce the agreement, if requested. The identifier may be the number assigned by FERC for those service agreements that have been filed with and accepted by the Commission, or it may be generated as part of an internal identification system.
21 | Contract Execution Date | ✓ | YYYYMMDD | The date the contract was signed. If the parties signed on different dates, use the most recent date signed.
22 | Contract Commencement Date | ✓ | YYYYMMDD | The date the terms of the contract reported in the EQR were effective. If the terms reported in the Contract Data section of the EQR became effective or if service under those terms began on multiple dates (i.e.: due to an amendment), the date to be reported as the Commencement Date is the date when service began pursuant to the most recent amendment to the terms reported in the Contract Data section of the EQR.
23 | Contract Termination Date | If specified in the contract | YYYYMMDD | The date that the contract expires.
24 | Actual Termination Date | If contract terminated | YYYYMMDD | The date the contract actually terminates.
25 | Extension Provision Description | ✓ | Unrestricted text | Description of terms that provide for the continuation of the contract.
26 | Class Name | ✓ |  | See definitions of each class name below.
26 | Class Name | ✓ | F—Firm | For transmission sales, a service or product that always has priority over non-firm service. For power sales, a service or product that is not interruptible for economic reasons.
26 | Class Name | ✓ | NF—Non-firm | For transmission sales, a service that is reserved and/or scheduled on an as-available basis and is subject to curtailment or interruption at a lesser priority compared to Firm service. For an energy sale, a service or product for which delivery or receipt of the energy may be interrupted for any reason or no reason, without liability on the part of either the buyer or seller.
26 | Class Name | ✓ | UP—Unit Power Sale | Designates a dedicated sale of energy and capacity from one or more than one specified generation unit(s).
26 | Class Name | ✓ | N/A—Not Applicable | To be used only when the other available Class Names do not apply.
27 | Term Name | ✓ | LT—Long Term ST—Short Term N/A—Not Applicable | Contracts with durations of one year or greater are long-term. Contracts with shorter durations are short-term.
28 | Increment Name | ✓ |  | See definitions for each increment below.
28 | Increment Name | ✓ | H—Hourly | Terms of the contract (if specifically noted in the contract) set for up to 6 consecutive hours (≤ 6 consecutive hours).
28 | Increment Name | ✓ | D—Daily | Terms of the contract (if specifically noted in the contract) set for more than 6 and up to 60 consecutive hours (> 6 and ≤ 60 consecutive hours).
28 | Increment Name | ✓ | W—Weekly | Terms of the contract (if specifically noted in the contract) set for over 60 consecutive hours and up to 168 consecutive hours (> 60 and ≤ 168 consecutive hours).
28 | Increment Name | ✓ | M—Monthly | Terms of the contract (if specifically noted in the contract) set for more than 168 consecutive hours up to, but not including, one year (> 168 consecutive hours and < 1 year).
28 | Increment Name | ✓ | Y—Yearly | Terms of the contract (if specifically noted in the contract) set for one year or more (≥ 1 year).
28 | Increment Name | ✓ | N/A—Not Applicable | Terms of the contract do not specify an increment.
29 | Increment Peaking Name | ✓ |  | See definitions for each increment peaking name below.
29 | Increment Peaking Name | ✓ | FP—Full Period | The product described may be sold during those hours designated as on-peak and off-peak in the NERC region of the point of delivery.
29 | Increment Peaking Name | ✓ | OP—Off-Peak | The product described may be sold only during those hours designated as off-peak in the NERC region of the point of delivery.
29 | Increment Peaking Name | ✓ | P—Peak | The product described may be sold only during those hours designated as on-peak in the NERC region of the point of delivery.
29 | Increment Peaking Name | ✓ | N/A—Not Applicable | To be used only when the increment peaking name is not specified in the contract.
30 | Product Type Name | ✓ |  | See definitions for each product type below.
30 | Product Type Name | ✓ | CB—Cost Based | Energy or capacity sold under a FERC-approved cost-based rate tariff.
30 | Product Type Name | ✓ | CR—Capacity Reassignment | An agreement under which a transmission provider sells, assigns or transfers all or portion of its rights to an eligible customer.
30 | Product Type Name | ✓ | MB—Market Based | Energy or capacity sold under the seller's FERC-approved market-based rate tariff.
30 | Product Type Name | ✓ | T—Transmission | The product is sold under a FERC-approved transmission tariff.
30 | Product Type Name | ✓ | Other | The product cannot be characterized by the other product type names.
31 | Product Name | ✓ | See Product Name Table, Appendix A | Description of product being offered.
32 | Quantity | If specified in the contract | Number with up to 4 decimals | Quantity for the contract product identified.
33 | Units | If specified in the contract | See Units Table, Appendix E | Measure stated in the contract for the product sold.
34 | Rate |  | Number with up to 4 decimals | The charge for the product per unit as stated in the contract.
35 | Rate Minimum | One of four rate fields (34, 35, 36, or 37) must be included | Number with up to 4 decimals | Maximum rate to be charged per the contract, if a range is specified.
36 | Rate Maximum |  | Number with up to 4 decimals | Maximum rate to be charged per the contract, if a range is specified.
37 | Rate Description |  | Unrestricted text | Text description of rate. If the rate is currently available on the FERC Web site, a citation of the FERC Accession Number and the relevant FERC tariff including page number or section may be included instead of providing the entire rate algorithm. If the rate is not available on the FERC Web site, include the rate algorithm, if rate is calculated. If the algorithm would exceed the 150 character field limit, it may be provided in a descriptive summary (including bases and methods of calculations) with a detailed citation of the relevant FERC tariff including page number and section. If more than 150 characters are required, the contract product may be repeated in a subsequent line of data until the rate is adequately described.
38 | Rate Units | If specified in the contract | See Rate Units Table, Appendix F | Measure stated in the contract for the product sold.
39 | Point of Receipt Balancing Authority (PORBA) | If specified in the contract | See Balancing Authority Table, Appendix B | The registered NERC Balancing Authority (formerly called NERC Control Area) where service begins for a transmission or transmission-related jurisdictional sale. The Balancing Authority will be identified with the abbreviation used in OASIS applications. If receipt occurs at a trading hub specified in the EQR software, the term “Hub” should be used.
40 | Point of Receipt Specific Location (PORSL) | If specified in the contract | Unrestricted text (50 characters). If “HUB” is selected for PORCA, see Hub Table, Appendix C | The specific location at which the product is received if designated in the contract. If receipt occurs at a trading hub, a standardized hub name must be used. If more points of receipt are listed in the contract than can fit into the 50 character space, a description of the collection of points may be used. `Various,' alone, is unacceptable unless the contract itself uses that terminology.
41 | Point of Delivery Balancing Authority (PODBA) | If specified in the contract | See Balancing Authority Table, Appendix B | The registered NERC Balancing Authority (formerly called NERC Control Area) where a jurisdictional product is delivered and/or service ends for a transmission or transmission-related jurisdictional sale. The Balancing Authority will be identified with the abbreviation used in OASIS applications. If delivery occurs at the interconnection of two control areas, the control area that the product is entering should be used. If delivery occurs at a trading hub specified in the EQR software, the term “Hub” should be used.
42 | Point of Delivery Specific Location (PODSL) | If specified in the contract | Unrestricted text (50 characters). If “HUB” is selected for PODCA, see Hub Table, Appendix C | The specific location at which the product is delivered if designated in the contract. If receipt occurs at a trading hub, a standardized hub name must be used.
43 | Begin Date | If specified in the contract | YYYYMMDDHHMM | First date for the sale of the product at the rate specified.
44 | End Date | If specified in the contract | YYYYMMDDHHMM | Last date for the sale of the product at the rate specified.
45 | Time Zone | ✓ | See Time Zone Table, Appendix D | The time zone in which the sales will be made under the contract.
Transaction Data
46 | Transaction Unique ID | ✓ | An integer proceeded by the letter “T” (only used when importing transaction data) | An identifier beginning with the letter “T” and followed by a number (e.g., “T1”, “T2”) used to designate a record containing transaction information in a comma-delimited (csv) file that is imported into the EQR filing. One record for each transaction record may be imported into an EQR for a given quarter. A new transaction record must be used every time a price changes in a sale.
47 | Seller Company Name | ✓ | Unrestricted text (100 Characters) | The name of the company that is authorized to make sales as indicated in the company's FERC tariff(s). This name must match the name provided as a Seller's “Company Name” in Field 2 of the ID Data (Seller Data).
48 | Customer Company Name | ✓ | Unrestricted text (70 Characters) | The name of the counterparty.
49 | Customer DUNS Number | ✓ | Nine digit number | The unique nine digit number assigned by Dun and Bradstreet to the counterparty to the contract.
50 | FERC Tariff Reference | ✓ | Unrestricted text (60 Characters) | The FERC tariff reference cites the document that specifies the terms and conditions under which a Seller is authorized to make transmission sales, power sales or sales of related jurisdictional services at cost-based rates or at market-based rates. If the sales are market-based, the tariff that is specified in the FERC order granting the Seller Market Based Rate Authority must be listed.
51 | Contract Service Agreement ID | ✓ | Unrestricted text (30 Characters) | Unique identifier given to each service agreement that can be used by the filing company to produce the agreement, if requested. The identifier may be the number assigned by FERC for those service agreements that have been filed and approved by the Commission, or it may be generated as part of an internal identification system.
52 | Transaction Unique Identifier | ✓ | Unrestricted text (24 Characters) | Unique reference number assigned by the seller for each transaction.
53 | Transaction Begin Date | ✓ | YYYYMMDDHHMM (csv import) MMDDYYYYHHMM (manual entry) | First date and time the product is sold during the quarter.
54 | Transaction End Date | ✓ | YYYYMMDDHHMM (csv import) MMDDYYYYHHMM (manual entry) | Last date and time the product is sold during the quarter.
55 | Time Zone | ✓ | See Time Zone Table, Appendix D | The time zone in which the sales will be made under the contract.
56 | Point of Delivery Balancing Authority (PODBA) | ✓ | See Balancing Authority Table, Appendix B | The registered NERC Balancing Authority (formerly called NERC Control Area) abbreviation used in OASIS applications.
57 | Point of Delivery Specific Location (PODSL) | ✓ | Unrestricted text (50 characters). If “HUB” is selected for PODBA, see Hub Table, Appendix C | The specific location at which the product is delivered. If receipt occurs at a trading hub, a standardized hub name must be used.
58 | Class Name | ✓ |  | See class name definitions below.
58 | Class Name | ✓ | F—Firm | A sale, service or product that is not interruptible for economic reasons.
58 | Class Name | ✓ | NF—Non-firm | A sale for which delivery or receipt of the energy may be interrupted for any reason or no reason, without liability on the part of either the buyer or seller.
58 | Class Name | ✓ | UP—Unit Power Sale | Designates a dedicated sale of energy and capacity from one or more than one specified generation unit(s).
58 | Class Name | ✓ | BA—Billing Adjustment | Designates an incremental material change to one or more transactions due to a change in settlement results. “BA” may be used in a refiling after the next quarter's filing is due to reflect the receipt of new information. It may not be used to correct an inaccurate filing.
58 | Class Name | ✓ | N/A—Not Applicable | To be used only when the other available class names do not apply.
59 | Term Name | ✓ | LT—Long Term ST—Short Term N/A—Not Applicable | Power sales transactions with durations of one year or greater are long-term. Transactions with shorter durations are short-term.
60 | Increment Name | ✓ |  | See increment name definitions below.
60 | Increment Name | ✓ | H—Hourly | Terms of the particular sale set for up to 6 consecutive hours (≤ 6 consecutive hours) Includes LMP based sales in ISO/RTO markets.
60 | Increment Name | ✓ | D—Daily | Terms of the particular sale set for more than 6 and up to 60 consecutive hours (> 6 and ≤ 60 consecutive hours) Includes sales over a peak or off-peak block during a single day.
60 | Increment Name | ✓ | W—Weekly | Terms of the particular sale set for over 60 consecutive hours and up to 168 consecutive hours (> 60 and ≤ 168 consecutive hours). Includes sales for a full week and sales for peak and off-peak blocks over a particular week.
60 | Increment Name | ✓ | M—Monthly | Terms of the particular sale set for set for more than 168 consecutive hours up to, but not including, one year (>168 consecutive hours and < 1 year). Includes sales for full month or multi-week sales during a given month.
60 | Increment Name | ✓ | Y—Yearly | Terms of the particular sale set for one year or more (≥ 1 year). Includes all long-term contracts with defined pricing terms (fixed-price, formula, or index).
60 | Increment Name | ✓ | DN/A—Not Applicable | To be used only when other available increment names do not apply.
61 | Increment Peaking Name | ✓ | See definitions for increment peaking below
61 | Increment Peaking Name | ✓ | FP—Full Period | The product described was sold during Peak and Off-Peak hours.
61 | Increment Peaking Name | ✓ | OP—Off-Peak | The product described was sold only during those hours designated as off-peak in the NERC region of the point of delivery.
61 | Increment Peaking Name | ✓ | P—Peak | The product described was sold only during those hours designated as on-peak in the NERC region of the point of delivery.
61 | Increment Peaking Name | ✓ | N/A—Not Applicable | To be used only when the other available increment peaking names do not apply.
62 | Product Name | ✓ | See Product Names Table, Appendix A | Description of product being offered.
63 | Transaction Quantity | ✓ | Number with up to 4 decimals | The quantity of the product in this transaction.
64 | Price | ✓ | Number with up to 6 decimals | Actual price charged for the product per unit. The price reported cannot be averaged or otherwise aggregated.
65 | Rate Units | ✓ | See Rate Units Table, Appendix F | Measure appropriate to the price of the product sold.
66 | Total Transmission Charge | ✓ | Number with up to 2 decimals | Payments received for transmission services when explicitly identified.
67 | Total Transaction Charge | ✓ | Number with up to 2 decimals | Transaction Quantity (Field 63) times Price (Field 64) plus Total Transmission Charge (Field 66).

EQR Data Dictionary—Appendix A. Product Names
Product name | Contract product | Transaction product | Definition
BLACK START SERVICE | ✓ | ✓ | Service available after a system-wide blackout where a generator participates in system restoration activities without the availability of an outside electric supply (Ancillary Service).
BOOKED OUT POWER |  | ✓ | Energy or capacity contractually committed bilaterally for delivery but not actually delivered due to some offsetting or countervailing trade (Transaction only).
CAPACITY | ✓ | ✓ | A quantity of demand that is charged on a $/KW or $/MW basis.
CUSTOMER CHARGE | ✓ | ✓ | Fixed contractual charges assessed on a per customer basis that could include billing service.
DIRECT ASSIGNMENT FACILITIES CHARGE | ✓ |  | Charges for facilities or portions of facilities that are constructed or used for the sole use/benefit of a particular customer.
EMERGENCY ENERGY | ✓ |  | Contractual provisions to supply energy or capacity to another entity during critical situations.
ENERGY | ✓ | ✓ | A quantity of electricity that is sold or transmitted over a period of time.
ENERGY IMBALANCE | ✓ | ✓ | Service provided when a difference occurs between the scheduled and the actual delivery of energy to a load obligation.
EXCHANGE | ✓ | ✓ | Transaction whereby the receiver accepts delivery of energy for a supplier's account and returns energy at times, rates, and in amounts as mutually agreed if the receiver is not an RTO/ISO.
FUEL CHARGE | ✓ | ✓ | Charge based on the cost or amount of fuel used for generation.
GRANDFATHERED BUNDLED | ✓ | ✓ | Services provided for bundled transmission, ancillary services and energy under contracts effective prior to Order No. 888's OATTs.
INTERCONNECTION AGREEMENT | ✓ |  | Contract that provides the terms and conditions for a generator, distribution system owner, transmission owner, transmission provider, or transmission system to physically connect to a transmission system or distribution system.
MEMBERSHIP AGREEMENT | ✓ |  | Agreement to participate and be subject to rules of a system operator.
MUST RUN AGREEMENT | ✓ |  | An agreement that requires a unit to run.
NEGOTIATED-RATE TRANSMISSION | ✓ | ✓ | Transmission performed under a negotiated rate contract (applies only to merchant transmission companies).
NETWORK | ✓ |  | Transmission service under contract providing network service.
NETWORK OPERATING AGREEMENT | ✓ |  | An executed agreement that contains the terms and conditions under which a network customer operates its facilities and the technical and operational matters associated with the implementation of network integration transmission service.
OTHER | ✓ | ✓ | Product name not otherwise included.
POINT-TO-POINT AGREEMENT | ✓ |  | Transmission service under contract between specified Points of Receipt and Delivery.
REACTIVE SUPPLY & VOLTAGE CONTROL | ✓ | ✓ | Production or absorption of reactive power to maintain voltage levels on transmission systems (Ancillary Service).
REAL POWER TRANSMISSION LOSS | ✓ | ✓ | The loss of energy, resulting from transporting power over a transmission system.
REGULATION & FREQUENCY RESPONSE | ✓ | ✓ | Service providing for continuous balancing of resources (generation and interchange) with load, and for maintaining scheduled interconnection frequency by committing on-line generation where output is raised or lowered and by other non-generation resources capable of providing this service as necessary to follow the moment-by-moment changes in load (Ancillary Service).
REQUIREMENTS SERVICE | ✓ | ✓ | Firm, load-following power supply necessary to serve a specified share of customer's aggregate load during the term of the agreement. Requirements service may include some or all of the energy, capacity and ancillary service products. (If the components of the requirements service are priced separately, they should be reported separately in the transactions tab.)
SCHEDULE SYSTEM CONTROL & DISPATCH | ✓ | ✓ | Scheduling, confirming and implementing an interchange schedule with other Balancing Authorities, including intermediary Balancing Authorities providing transmission service, and ensuring operational security during the interchange transaction (Ancillary Service).
SPINNING RESERVE | ✓ | ✓ | Unloaded synchronized generating capacity that is immediately responsive to system frequency and that is capable of being loaded in a short time period or non-generation resources capable of providing this service (Ancillary Service).
SUPPLEMENTAL RESERVE | ✓ | ✓ | Service needed to serve load in the event of a system contingency, available with greater delay than SPINNING RESERVE. This service may be provided by generating units that are on-line but unloaded, by quick-start generation, or by interruptible load or other non-generation resources capable of providing this service (Ancillary Service).
SYSTEM OPERATING AGREEMENTS | ✓ |  | An executed agreement that contains the terms and conditions under which a system or network customer shall operate its facilities and the technical and operational matters associated with the implementation of network.
TOLLING ENERGY | ✓ | ✓ | Energy sold from a plant whereby the buyer provides fuel to a generator (seller) and receives power in return for pre-established fees.
TRANSMISSION OWNERS AGREEMENT | ✓ |  | The agreement that establishes the terms and conditions under which a transmission owner transfers operational control over designated transmission facilities.
UPLIFT | ✓ | ✓ | A make-whole payment by an RTO/ISO to a utility.

EQR Data Dictionary—Appendix B. Balancing Authority
Balancing authority | Abbreviation | Outside US *
AESC, LLC—Wheatland CIN | AEWC |
Alabama Electric Cooperative, Inc | AEC |
Alberta Electric System Operator | AESO | ✓
Alliant Energy Corporate Services, LLC—East | ALTE |
Alliant Energy Corporate Services, LLC—West | ALTW |
Ameren Transmission | AMRN |
Ameren Transmission. Illinois | AMIL |
Ameren Transmission. Missouri | AMMO |
American Transmission Systems, Inc | FE |
Aquila Networks—Kansas | WPEK |
Aquila Networks—Missouri Public Service | MPS |
Aquila Networks—West Plains Dispatch | WPEC |
Arizona Public Service Company | AZPS |
Associated Electric Cooperative, Inc | AECI |
Avista Corp | AVA |
Batesville Balancing Authority | BBA |
Big Rivers Electric Corp | BREC |
Board of Public Utilities | KACY |
Bonneville Power Administration Transmission | BPAT |
British Columbia Transmission Corporation | BCTC | ✓
California Independent System Operator | CISO |
Carolina Power & Light Company—CPLW | CPLW |
Carolina Power and Light Company—East | CPLE |
Central and Southwest | CSWS |
Central Illinois Light Co | CILC |
Chelan County PUD | CHPD |
Cinergy Corporation | CIN |
City of Homestead | HST |
City of Independence P&L Dept | INDN |
City of Tallahassee | TAL |
City Water Light & Power | CWLP |
Cleco Power LLC | CLEC |
Columbia Water & Light | CWLD |
Comision Federal de Electricidad | CFE | ✓
Constellation Energy Control and Dispatch—Arkansas | PUPP |
Constellation Energy Control and Dispatch—City of Benton, AR | BUBA |
Constellation Energy Control and Dispatch—City of Ruston, LA | DERS |
Constellation Energy Control and Dispatch—Conway, Arkansas | CNWY |
Constellation Energy Control and Dispatch—Gila River | GRMA |
Constellation Energy Control and Dispatch—Harquehala | HGMA |
Constellation Energy Control and Dispatch—North Little Rock, AR | DENL |
Constellation Energy Control and Dispatch—West Memphis, Arkansas | WMUC |
Dairyland Power Cooperative | DPC |
DECA, LLC—Arlington Valley | DEAA |
Duke Energy Corporation | DUK |
East Kentucky Power Cooperative, Inc | EKPC |
El Paso Electric | EPE |
Electric Energy, Inc | EEI |
Empire District Electric Co., The | EDE |
Entergy | EES |
ERCOT ISO | ERCO |
Florida Municipal Power Pool | FMPP |
Florida Power & Light | FPL |
Florida Power Corporation | FPC |
Gainesville Regional Utilities | GVL |
Georgia System Operations Corporation | GSOC |
Georgia Transmission Corporation | GTC |
Grand River Dam Authority | GRDA |
Grant County PUD No. 2 | GCPD |
Great River Energy | GRE |
Great River Energy | GREC |
Great River Energy | GREN |
Great River Energy | GRES |
GridAmerica | GA |
Hoosier Energy | HE |
Hydro-Quebec, TransEnergie | HQT | ✓
Idaho Power Company | IPCO |
Illinois Power Co | IP |
Illinois Power Co | IPRV |
Imperial Irrigation District | IID |
Indianapolis Power & Light Company | IPL |
ISO New England Inc | ISNE |
JEA | JEA |
Kansas City Power & Light, Co | KCPL |
Lafayette Utilities System | LAFA |
LG&E Energy Transmission Services | LGEE |
Lincoln Electric System | LES |
Los Angeles Department of Water and Power | LDWP |
Louisiana Energy & Power Authority | LEPA |
Louisiana Generating, LLC | LAGN |
Madison Gas and Electric Company | MGE |
Manitoba Hydro Electric Board, Transmission Services | MHEB | ✓
Michigan Electric Coordinated System | MECS |
Michigan Electric Coordinated System—CONS | CONS |
Michigan Electric Coordinated System—DECO | DECO |
MidAmerican Energy Company | MEC |
Midwest ISO | MISO |
Minnesota Power, Inc | MP |
Montana-Dakota Utilities Co | MDU |
Muscatine Power and Water | MPW |
Nebraska Public Power District | NPPD |
Nevada Power Company | NEVP |
New Brunswick Power Corporation | NBPC | ✓
New Horizons Electric Cooperative | NHC1 |
New York Independent System Operator | NYIS |
North American Electric Reliability Council | TEST |
Northern Indiana Public Service Company | NIPS |
Northern States Power Company | NSP |
NorthWestern Energy | NWMT |
Ohio Valley Electric Corporation | OVEC |
Oklahoma Gas and Electric | OKGE |
Ontario—Independent Electricity Market Operator | IMO | ✓
OPPD CA/TP | OPPD |
Otter Tail Power Company | OTP |
P.U.D. No. 1 of Douglas County | DOPD |
PacifiCorp-East | PACE |
PacifiCorp-West | PACW |
PJM Interconnection | PJM |
Portland General Electric | PGE |
Public Service Company of Colorado | PSCO |
Public Service Company of New Mexico | PNM |
Puget Sound Energy Transmission | PSEI |
Reedy Creek Improvement District | RC |
Sacramento Municipal Utility District | SMUD |
Salt River Project | SRP |
Santee Cooper | SC |
SaskPower Grid Control Centre | SPC | ✓
Seattle City Light | SCL |
Seminole Electric Cooperative | SEC |
Sierra Pacific Power Co.—Transmission | SPPC |
South Carolina Electric & Gas Company | SCEG |
South Mississippi Electric Power Association | SME |
South Mississippi Electric Power Association | SMEE |
Southeastern Power Administration—Hartwell | SEHA |
Southeastern Power Administration—Russell | SERU |
Southeastern Power Administration—Thurmond | SETH |
Southern Company Services, Inc | SOCO |
Southern Illinois Power Cooperative | SIPC |
Southern Indiana Gas & Electric Co | SIGE |
Southern Minnesota Municipal Power Agency | SMP |
Southwest Power Pool | SWPP |
Southwestern Power Administration | SPA |
Southwestern Public Service Company | SPS |
Sunflower Electric Power Corporation | SECI |
Tacoma Power | TPWR |
Tampa Electric Company | TEC |
Tennessee Valley Authority ESO | TVA |
Trading Hub | HUB |
TRANSLink Management Company | TLKN |
Tucson Electric Power Company | TEPC |
Turlock Irrigation District | TIDC |
Upper Peninsula Power Co | UPPC |
Utilities Commission, City of New Smyrna Beach | NSB |
Westar Energy—MoPEP Cities | MOWR |
Western Area Power Administration—Colorado—Missouri | WACM |
Western Area Power Administration—Lower Colorado | WALC |
Western Area Power Administration—Upper Great Plains East | WAUE |
Western Area Power Administration—Upper Great Plains West | WAUW |
Western Farmers Electric Cooperative | WFEC |
Western Resources dba Westar Energy | WR |
Wisconsin Energy Corporation | WEC |
Wisconsin Public Service Corporation | WPS |
Yadkin, Inc | YAD |
* Balancing authorities outside the United States may only be used in the Contract Data section to identify specified receipt/delivery points in jurisdictional transmission contracts.

EQR Data Dictionary—Appendix C. Hub
HUB | Definition
ADHUB | The aggregated Locational Marginal Price (“LMP”) nodes defined by PJM Interconnection, LLC as the AEP/Dayton Hub.
AEPGenHub | The aggregated Locational Marginal Price (“LMP”) nodes defined by PJM Interconnection, LLC as the AEPGenHub.
COB | The set of delivery points along the California-Oregon border commonly identified as and agreed to by the counterparties to constitute the COB Hub.
Cinergy (into) | The set of delivery points commonly identified as and agreed to by the counterparties to constitute delivery into the Cinergy balancing authority.
Cinergy Hub (MISO) | The aggregated Elemental Pricing nodes (“Epnodes”) nodes defined by the Midwest Independent Transmission System Operator, Inc., as Cinergy Hub (MISO).
Entergy (into) | The set of delivery points commonly identified as and agreed to by the counterparties to constitute delivery into the Entergy balancing authority.
FE Hub | The aggregated Elemental Pricing nodes (“Epnodes”) nodes defined by the Midwest Independent Transmission System Operator, Inc., as FE Hub (MISO).
Four Corners | The set of delivery points at the Four Corners power plant commonly identified as and agreed to by the counterparties to constitute the Four Corners Hub.
Illinois Hub (MISO) | The aggregated Elemental Pricing nodes (“Epnodes”) nodes defined by the Midwest Independent Transmission System Operator, Inc., as Illinois Hub (MISO).
Mead | The set of delivery points at or near Hoover Dam commonly identified as and agreed to by the counterparties to constitute the Mead Hub.
Michigan Hub (MISO) | The aggregated Elemental Pricing nodes (“Epnodes”) nodes defined by the Midwest Independent Transmission System Operator, Inc., as Michigan Hub (MISO).
Mid-Columbia (Mid-C) | The set of delivery points along the Columbia River commonly identified as and agreed to by the counterparties to constitute the Mid-Columbia Hub.
Minnesota Hub (MISO) | The aggregated Elemental Pricing nodes (“Epnodes”) nodes defined by the Midwest Independent Transmission System Operator, Inc., as Minnesota Hub (MISO).
NEPOOL (Mass Hub) | The aggregated Locational Marginal Price (“LMP”) nodes defined by ISO New England Inc., as Mass Hub.
NIHUB | The aggregated Locational Marginal Price (“LMP”) nodes defined by PJM Interconnection, LLC as the Northern Illinois Hub.
NOB | The set of delivery points along the Nevada-Oregon border commonly identified as and agreed to by the counterparties to constitute the NOB Hub.
NP15 | The set of delivery points north of Path 15 on the California transmission grid commonly identified as and agreed to by the counterparties to constitute the NP15 Hub.
NWMT | The set of delivery points commonly identified as and agreed to by the counterparties to constitute delivery into the Northwestern Energy Montana balancing authority.
PJM East Hub | The aggregated Locational Marginal Price nodes (“LMP”) defined by PJM Interconnection, LLC as the PJM East Hub.
PJM South Hub | The aggregated Locational Marginal Price (“LMP”) nodes defined by PJM Interconnection, LLC as the PJM South Hub.
PJM West Hub | The aggregated Locational Marginal Price (“LMP”) nodes defined by PJM Interconnection, LLC as the PJM Western Hub.
Palo Verde | The switch yard at the Palo Verde nuclear power station west of Phoenix in Arizona. Palo Verde Hub includes the Hassayampa switchyard 2 miles south of Palo Verde.
SOCO (into) | The set of delivery points commonly identified as and agreed to by the counterparties to constitute delivery into the Southern Company balancing authority.
SP15 | The set of delivery points south of Path 15 on the California transmission grid commonly identified as and agreed to by the counterparties to constitute the SP15 Hub.
TVA (into) | The set of delivery points commonly identified as and agreed to by the counterparties to constitute delivery into the Tennessee Valley Authority balancing authority.
ZP26 | The set of delivery points associated with Path 26 on the California transmission grid commonly identified as and agreed to by the counterparties to constitute the ZP26 Hub.

EQR Data Dictionary—Appendix D. Time Zone
Time zone | Definition
AD | Atlantic Daylight.
AP | Atlantic Prevailing.
AS | Atlantic Standard.
CD | Central Daylight.
CP | Central Prevailing.
CS | Central Standard.
ED | Eastern Daylight.
EP | Eastern Prevailing.
ES | Eastern Standard.
MD | Mountain Daylight.
MP | Mountain Prevailing.
MS | Mountain Standard.
NA | Not Applicable.
PD | Pacific Daylight.
PP | Pacific Prevailing.
PS | Pacific Standard.
UT | Universal Time.

EQR Data Dictionary—Appendix E. Units
Units | Definition
KV | Kilovolt.
KVA | Kilovolt Amperes.
KVR | Kilovar.
KW | Kilowatt.
KWH | Kilowatt Hour.
KW-DAY | Kilowatt Day.
KW-MO | Kilowatt Month.
KW-WK | Kilowatt Week.
KW-YR | Kilowatt Year.
MVAR-YR | Megavar Year.
MW | Megawatt.
MWH | Megawatt Hour.
MW-DAY | Megawatt Day.
MW-MO | Megawatt Month.
MW-WK | Megawatt Week.
MW-YR | Megawatt Year.
RKVA | Reactive Kilovolt Amperes.
FLAT RATE | Flat Rate.

EQR Data Dictionary—Appendix F. Rate Units
Rate units | Definition
$/KV | dollars per kilovolt.
$/KVA | dollars per kilovolt amperes.
$/KVR | dollars per kilovar.
$/KW | dollars per kilowatt.
$/KWH | dollars per kilowatt hour.
$/KW-DAY | dollars per kilowatt day.
$/KW-MO | dollars per kilowatt month.
$/KW-WK | dollars per kilowatt week.
$/KW-YR | dollars per kilowatt year.
$/MW | dollars per megawatt.
$/MWH | dollars per megawatt hour.
$/MW-DAY | dollars per megawatt day.
$/MW-MO | dollars per megawatt month.
$/MW-WK | dollars per megawatt week.
$/MW-YR | dollars per megawatt year.
$/MVAR-YR | dollars per megavar year.
$/RKVA | dollars per reactive kilovar amperes.
CENTS | cents.
CENTS/KVR | cents per kilovolt amperes.
CENTS/KWH | cents per kilowatt hour.
FLAT RATE | rate not specified in any other units.

[FR Doc. E8-184 Filed 1-9-08; 8:45 am]

BILLING CODE 6717-01-P